DEPARTMENT OF TRANSPORTATION

Federal Aviation Administration

14 CFR Part 39

[Docket No. FAA-2016-9143; Product Identifier 2013-SW-037-AD; Amendment 39-19051; AD 2017-19-21]

RIN 2120-AA64

Airworthiness Directives; Airbus Helicopters

AGENCY: Federal Aviation Administration (FAA), DOT.

ACTION: Final rule.

SUMMARY: We are adopting a new airworthiness directive (AD) for Airbus Helicopters Model EC225LP helicopters. This AD requires modifying the emergency lubrication system (EMLUB). This AD was prompted by two incidents of emergency ditching after there was a warning of a loss of oil pressure and a false EMLUB failure. The actions of this AD are intended to address an unsafe condition on these products.

DATES: This AD is effective October 30, 2017.

The Director of the Federal Register approved the incorporation by reference of a certain document listed in this AD as of October 30, 2017.

ADDRESSES: For service information identified in this final rule, contact Airbus Helicopters, 2701 N Forum Drive, Grand Prairie, TX 75052; telephone (972) 641-0000 or (800) 232-0323; fax (972) 641-3775; or at http://www.airbushelicopters.com/techpub.

You may review the referenced service information at the FAA, Office of the Regional Counsel, Southwest Region, 10101 Hillwood Pkwy., Room 6N-321, Fort Worth, TX 76177.

Examining the AD Docket

You may examine the AD docket on the Internet at http://www.regulations.gov by searching for and locating Docket No. FAA-2016-9143; or in person at the Docket Operations Office between 9 a.m. and 5 p.m., Monday through Friday, except Federal holidays. The AD docket contains this AD, the European Aviation Safety Agency (EASA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Rao Edupuganti, Aviation Safety Engineer, Regulations & Policy Section, Rotorcraft Standards Branch, FAA, 10101 Hillwood Pkwy., Fort Worth, Texas 76177; telephone (817) 222-5110; email rao.edupuganti@faa.gov.

SUPPLEMENTARY INFORMATION:

Discussion

On March 14, 2017, at 82 FR 13565, the Federal Register published our notice of proposed rulemaking (NPRM), which proposed to amend 14 CFR part 39 by adding an AD that would apply to Airbus Helicopters (formerly Eurocopter France) Model EC225LP helicopters. The NPRM proposed to require replacing the EMLUB glycol pump, the air and glycol pressure switches, and the MGB lubrication card, and modifying and re-identifying the helicopter wiring harness. The NPRM also proposed testing the function of the EMLUB and electrical systems and revising the Emergency Procedures section of the RFM. Lastly, the NPRM proposed to prohibit installing certain part-numbered EMLUB glycol pumps, air-pressure switches, glycol pressure switches and electronic boards on any helicopter. The proposed requirements were intended to prevent a false EMLUB warning. This condition when associated with a loss of the MGB oil pressure could result in an unnecessary emergency landing or ditching.

The NPRM was prompted by AD No. 2013-0156, dated July 18, 2013, issued by EASA, which is the Technical Agent for the Member States of the European Union, to correct an unsafe condition for the Airbus Helicopters Model EC225LP helicopters. EASA advises of two incidents of emergency ditching in the North Sea after a warning indication of MGB loss of oil pressure followed by a red alarm on the EMLUB. In both cases, the EMLUB provided a false failure indication due to a design nonconformity on the electrical outputs of some EMLUB air and glycol pressure-switches. EASA states that a false red EMLUB warning during an MGB emergency lubrication system operation could cause the flight crew to perform an immediate landing or ditching. As a result, the EASA AD requires several actions that restore safe operation of the EMLUB system.

Comments

We gave the public the opportunity to participate in developing this AD, but we received no comments on the NPRM.

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed.

Related Service Information Under 1 CFR Part 51

Eurocopter (now Airbus Helicopters) issued Alert Service Bulletin (ASB) No. EC225-05A033, Revision 0, dated July 14, 2013, for Model EC225LP helicopters. This ASB specifies replacing the air and glycol pressure switches, modifying the helicopter wiring, replacing the glycol pump, replacing the MGB lubrication card, modifying the RFM emergency procedures in the event of EMLUB activation, and canceling the RFM limitations of Eurocopter Emergency ASB No. 04A010, dated July 14, 2013.

This service information is reasonably available because the interested parties have access to it through their normal course of business or by the means identified in the ADDRESSES section.

Related Service Information

Eurocopter (now Airbus Helicopters) also issued the following Alert Service Bulletins (ASBs), each dated July 14, 2013:

• Emergency ASB, Revision 1, with two different numbers: No. 04A010 for Model EC225LP helicopters and No. 04A009 for military Model EC725AP helicopters, which are not FAA type certificated. This Emergency ASB specifies modifying the RFM emergency procedures in the event of activation of the EMLUB system and applies only to those helicopters that have not been altered by certain modifications.

• Emergency ASB No. 05A032, Revision 2, for both Model EC225LP and military Model EC725AP helicopters. This Emergency ASB specifies checking that the EMLUB electrical system (harness, control, alarm, and indicator panel) operates correctly and applies only to those helicopters that have not been altered by certain modifications (the same as those for Emergency ASB No. 04A010 and No. 04A009).

Costs of Compliance

We estimate that this AD affects 4 helicopters of U.S. Registry and that labor costs average $85 per work-hour. Based on these estimates, we expect the following costs. We estimate that 34 work-hours are needed to replace the air and glycol pressure switches, modify the helicopter wiring, replace the glycol pump, and replace the MGB lubrication card. The required parts cost $121,695 per helicopter. Based on these estimates, the total costs are $124,585 per helicopter and $498,340 for the U.S. fleet.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-19-21 Airbus Helicopters (formerly Eurocopter France): Amendment 39-19051; Docket No. FAA-2016-9143; Product Identifier 2013-SW-037-AD.

(a) Applicability

This AD applies to Model EC225LP helicopters, certificated in any category.

(b) Unsafe Condition

This AD defines the unsafe condition as a false emergency lubrication system (EMLUB) warning. This condition when associated with a loss of the main gearbox (MGB) oil pressure could result in an unnecessary emergency landing or ditching.

(c) Effective Date

This AD becomes effective October 30, 2017.

(d) Compliance

You are responsible for performing each action required by this AD within the specified compliance time unless it has already been accomplished prior to that time.

(e) Required Actions

(1) Within 500 hours time-in-service:

(i) Replace EMLUB glycol pump part number (P/N) 332A32-5051-00 with EMLUB glycol pump P/N 332A32-5043-00.

(ii) Replace EMLUB air pressure switch P/N MA193-00 or MC7014-0-00 with P/N MC7014-1-00, and replace EMLUB glycol pressure switch P/N MA194-01 or MC7015-0-00 with P/N MC7015-1-00. P/N MC7014-1-00 and P/N MC7015-1-00 must be from the same manufacturer.

(iii) Modify and re-identify the helicopter wiring harness. Refer to Figure 3 of Eurocopter Alert Service Bulletin No. EC225-05A033, Revision 0, dated July 14, 2013 (ASB EC225-05A033).

(iv) Replace MGB lubrication card P/N 704A46580127 with P/N 704A46580146, and MGB lubrication card P/N 704A46580106 with P/N 704A46580146 or -147.

(v) Accomplish a functional test of the EMLUB system and the electrical system.

(vi) Revise the Emergency Procedures section of the Rotorcraft Flight Manual (RFM) by removing any pages from Section 3 of the RFM that pertain to the emergency procedures in the event of EMLUB activation and by inserting the pages from paragraph 4.C. Appendix 3, of ASB EC225-05A033 into Section 3 of the RFM.

(2) Do not install on any helicopter EMLUB glycol pump P/N 332A32-5051-00, air pressure-switch P/N MA193-00 or P/N MC7014-0-00, glycol pressure-switch P/N MA194-01 or P/N MC7015-0-00, or MGB lubrication card P/N 704A46580106 or P/N 704A46580127.

(f) Special Flight Permits

Special flight permits are prohibited.

(g) Alternative Methods of Compliance (AMOCs)

(1) The Manager, Safety Management Section, FAA, may approve AMOCs for this AD. Send your proposal to: Rao Edupuganti, Aviation Safety Engineer, Regulations & Policy Section, Rotorcraft Standards Branch, FAA, 10101 Hillwood Pkwy., Fort Worth, Texas 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) Emergency Alert Service Bulletin (ASB) No. 05A032, Revision 2, dated July 14, 2013, and Emergency ASB with two numbers (No. 04A010 and No. 04A009), Revision 1, dated July 14, 2013, which are not incorporated by reference, contain additional information about the subject of this AD. For service information identified in this AD, contact Airbus Helicopters, 2701 N. Forum Drive, Grand Prairie, TX 75052; telephone (972) 641-0000 or (800) 232-0323; fax (972) 641-3775; or at http://www.airbushelicopters.com/techpub. You may review a copy of the service information at the FAA, Office of the Regional Counsel, Southwest Region, 10101 Hillwood Pkwy, Room 6N-321, Fort Worth, TX 76177.

(2) The subject of this AD is addressed in European Aviation Safety Agency (EASA) AD 2013-0156, dated July 18, 2013. You may view the EASA AD on the Internet at http://www.regulations.gov in Docket No. FAA-2016-9143.

(i) Subject

Joint Aircraft Service Component (JASC) Code: 6320, Main Rotor Gearbox.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Eurocopter Alert Service Bulletin No. EC225-05A033, Revision 0, dated July 14, 2013.

(ii) Reserved.

(3) For Airbus Helicopters service information identified in this AD, contact Airbus Helicopters, 2701 N. Forum Drive, Grand Prairie, TX 75052; telephone (972) 641-0000 or (800) 232-0323; fax (972) 641-3775; or at http://www.airbushelicopters.com/techpub.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on September 11, 2017.
Lance T. Gant,
Director, Compliance & Airworthiness Division, Aircraft Certification Service.

[FR Doc. 2017-19939 Filed 9-22-17; 8:45 am]

BILLING CODE 4910-13-P